DEPARTMENT OF COMMERCE

National Oceanic and Atmospheric Administration

[RTID 0648-XF171]

Gulf Fishery Management Council; Public Meeting

AGENCY: National Marine Fisheries Service (NMFS), National Oceanic and Atmospheric Administration (NOAA), Commerce.

ACTION: Notice of a public meeting.

SUMMARY: The Gulf Fishery Management Council (Gulf Council) will hold a 3 day in-person meeting of its Standing and Special Shrimp Scientific and Statistical Committees (SSCs).

DATES: The meeting will be held Tuesday, October 7-Thursday, October 9, 2025. Daily schedule as follows: Tuesday and Wednesday from 8:30 a.m.-5 p.m., EDT daily and Thursday from 8:30 a.m.-1 p.m.

ADDRESSES: The meeting will take place at the Gulf Council office. Registration information will be available on the Council's website by visiting www.gulfcouncil.org and clicking on the “meeting tab”.

Council address: Gulf Fishery Management Council, 4107 W Spruce Street, Suite 200, Tampa, FL 33607; telephone: (813) 348-1630.

FOR FURTHER INFORMATION CONTACT: Mr. Ryan Rindone, Lead Fishery Biologist, Gulf Fishery Management Council; ryan.rindone@gulfcouncil.org, telephone: (813) 348-1630.

SUPPLEMENTARY INFORMATION:

Tuesday, October 7, 2025; 8:30 a.m.-5 p.m. EDT

The meeting will begin with Introductions and Adoption of Agenda, review and approval of Meeting Minutes from the May 2025 SSC meeting, Scope of Work and Election of Chair and Vice Chair.

The SSC will then review the SEDAR 87 stock assessments of Gulf Penaeid Shrimp, including presentations, background material and SSC discussions. The SSC will then review MSE Evaluations of MRIP-FES Recalibrations, and MRIP-FES Scaling of Recreational Landings Data for Texas and Louisiana for Species other than Red Snapper, including presentations, background material and SSC discussions.

Public comments will be heard at the end of the day, if any.

Wednesday, October 8, 2025; 8:30 a.m.-5 p.m., EDT

The SSCs will reassemble to discuss the Progress on MRIP Pilot Studies, followed by a review of the Preliminary Results of Regional Fishery Management Council Regulatory Process, including presentations, and SSC discussions. The SSC will next review Gulf SSC Projections Considerations and a Lane Snapper Interim Analysis and Catch Advice, including presentations, background material and SSC discussions.

Following lunch, the SSC will convene to review Science Coordination Subcommittee Materials, followed by the Gag Grouper Operational Assessment Terms of Reference and participants selection, including background materials and discussions, before requesting SSC volunteers for the Joint Gulf and South Atlantic SSCs Working Group for MSY Proxies. The SSC will then review Essential Fish Habitat Mapping for Gulf Shrimp, Reef Fish, Coastal Migratory Pelagics, Spiny Lobster, and Red Drum FMPs including presentations, background material and SSC discussions.

Public comments will be heard at the end of the day, if any.

Thursday, October 9, 2025; 8:30 a.m.-1 p.m., EDT

The SSC will review SEFSC Stakeholder Participatory Workshops, including presentations, background manuscripts and SSC discussions. Then, the SSC will discuss Social and Economic Effects of Mid-year IFQ Quota Modifications, including a presentation and SSC discussion. Public comments will be heard at the end of the day, if any.

The SSC will then review Other Business, if any.

—Meeting Adjourns

The meeting will also be broadcast via webinar. You may register for the webinar by visiting https://www.gulfcouncil.org and clicking on the SSC meeting on the calendar.

The Agenda is subject to change, and the latest version along with other meeting materials will be posted on https://www.gulfcouncil.org as they become available.

Although other non-emergency issues not on the agenda may come before the Scientific and Statistical Committees for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take-action to address the emergency.

Special Accommodations

These meetings are physically accessible to people with disabilities. Requests for sign language interpretation or other auxiliary aid should be directed to Kathy Pereira, (813) 348-1630, at least 5 days prior to the meeting date.

Authority: 16 U.S.C. 1801 et seq.

Dated: September 18, 2025.
Rey Israel Marquez,
Acting Deputy Director, Office of Sustainable Fisheries, National Marine Fisheries Service.

[FR Doc. 2025-18313 Filed 9-19-25; 8:45 am]

BILLING CODE 3510-22-P